NATIONAL NANOTECHNOLOGY COORDINATION OFFICE

Nanoscale Science, Engineering and Technology Subcommittee, National Science and Technology Council, Committee on Technology; Nanomaterials and the Environment & Instrumentation, Metrology, and Analytical Methods Workshop: Public Meeting

ACTION: Notice of public meeting.

SUMMARY: The National Nanotechnology Coordination Office (NNCO), on behalf of the Nanoscale Science, Engineering, and Technology (NSET) Subcommittee of the Committee on Technology, National Science and Technology Council (NSTC), will hold a workshop on October 6-7, 2009, to provide an open forum to discuss the state-of-the-art of the science related to environmental, health, and safety aspects of nanomaterials in two areas: Nanomaterials and the Environment & Instrumentation, Metrology, and Analytical Methods. These are two of the five environmental, health, and safety research categories identified in the NSET Subcommittee document Strategy for Nanotechnology-Related Environmental, Health, and Safety Research (http://www.nano.gov/NNI_EHS_Research_Strategy.pdf), which was released February 14, 2008.

DATES: The public meeting will be held on Tuesday, October 6, 2009 from 8 a.m. until 5:30 p.m. and on Wednesday, October 7, 2009 from 8 a.m. until 4 p.m.

ADDRESSES: The public meeting will be held at the Holiday Inn Rosslyn-Key Bridge, 1900 N. Fort Myer Drive, Arlington, VA 22209 (Metro stop: Rosslyn on the Orange and Blue lines). For directions, please see http://www.holidayinn.com.

Registration: Due to space limitations, pre-registration for the workshop is required. People interested in attending the workshop should register online at http://www.nano.gov/html/meetings/environment/register.html. Written notices of participation by e-mail should be sent to environment@nnco.nano.gov. Written notices may be mailed to the Environment & IMA Workshop, c/o NNCO, 4201 Wilson Blvd., Stafford II, Suite 405, Arlington, VA 22230. Registration is on a first-come, first-served basis. Registration will close on October 1, 2009 at 4 p.m. EDT.

Those interested in presenting 3-5 minutes of public comments at the meeting should also register at http://www.nano.gov/html/meetings/environment/register.html. Written or electronic comments should be submitted by e-mail to environment@nnco.nano.gov until October 31, 2009.

Information about the meeting, including the agenda, is posted at http://www.nano.gov.

The main sessions will be Web cast. Please see http://www.nano.gov for more information.

FOR FURTHER INFORMATION CONTACT: For information regarding this Notice, please contact Liesl Heeter, telephone (703) 292-4533, or Heather Evans, telephone (703) 292-7916, National Nanotechnology Coordination Office. E-mail: environment@nnco.nano.gov.

SUPPLEMENTARY INFORMATION: Environment & Instrumentation and Metrology research are used to guide efforts to improve environmental, health, and safety (EHS) protection with regard to nanoscale engineered materials and to monitor trends and progress. The purpose of this workshop is to engage in an active discussion and learn more about the state-of-the-art in (1) Nanomaterials and the Environment and (2) Instrumentation, Metrology, and Analytical Methods by (a) Discussing the state-of-the-science to assess the research needs and identify challenges and emerging trends, (b) relating progress and next steps as input to the Federal government's effort to adaptively manage its nanoEHS research strategy, and (c) building dialogue and strengthening collaborations.

M. David Hodge,
Operations Manager, OSTP.

[FR Doc. E9-23142 Filed 9-24-09; 8:45 am]

BILLING CODE 3170-W9-P